FEDERAL COMMUNICATIONS COMMISSION

47 CFR Part 73

[DA 05-2207; MB Docket No. 04-411; RM-11096]

Radio Broadcasting Services; Georgetown, Mason, and Oxford, OH, Salt Lick, KY and West Union, OH

AGENCY: Federal Communications Commission.

ACTION: Final rule.

SUMMARY: This document grants a petition filed by Balogh Broadcasting Company, Inc., licensee of Station WOXY(FM), Channel 249A, Oxford, Ohio, Richard L. Plessinger, Sr., licensee of Station WAXZ(FM), Channel 249A, Georgetown, Ohio, and Dreamcatcher Communications, Inc., licensee of Station WRAC(FM), Channel 276A, West Union, Ohio requesting the reallotment of Channel 249A from Oxford to Mason, Ohio, as its first local service and modification of the Station WOXY(FM) license; reallotment of Channel 249A from Georgetown, Ohio to Salt Lick, Kentucky, as its first local service and modification of the Station WAXZ(FM) license; and reallotment of Channel 276A from West Union to Georgetown, Ohio to prevent removal of sole existing local service and modification of the Station WRAC(FM) license. See 69 FR 67882, published November 22, 2004. See SUPPLEMENTARY INFORMATION, supra.

DATES: Effective September 12, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 04-411, adopted July 27, 2005, and released July 29, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801(a)(1)(A).

Channel 249A can be allotted to Mason in compliance with the Commission's minimum distance separation requirements with a site restriction of 9.4 kilometers (5.8 miles) east of Mason at reference coordinates 39-20-57 NL and 84-12-08 WL. Channel 249A can also be allotted to Salt Lick in compliance with the Commission's minimum distance separation requirements with a site restriction of 6.6 kilometers (4.1 miles) northeast of Salt Lick at reference coordinates 38-10-15 NL and 83-34-31 WL. Channel 276A can also be allotted to Georgetown in compliance with the Commission's minimum distance separation requirements with a site restriction of 12.1 kilometers (7.5 miles) east at reference coordinates 38-52-14 NL and 83-45-55 WL. On May 17, 2004, First Broadcasting Capital Partners, LLC became the licensee of Stations WOXY(FM) and WAXZ(FM) pursuant to assignment of license applications. See File Nos. BALH-20040126AMT and BALH-20040127ADR.

This document also dismissed a counterproposal filed Gateway Radio Works, Inc., licensee of Station WIVY(FM), Channel 242A, Morehead, Kentucky, requesting the allotment of Channel 249A at Livingston, Kentucky, as its first local service. To accommodate this proposed allotment, the counterproposal also requested the reclassification of Station WJXB-FM, Channel 248C, Knoxville, Tennessee as a C0 facility because the station operates below minimum Class C facilities; and the reallotment of Channel 242A from Morehead to Salt Lick, Kentucky, as its first local service and the modification of the Station WIVY(FM) license to specify Salt Lick as its community of license.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Kentucky, is amended by adding Salt Lick, Channel 249A.

3. Section 73.202(b), the Table of FM Allotments under Ohio, is amended by removing Channel 249A and by adding Channel 276A at Georgetown, by adding Mason, Channel 249A, by removing Oxford, Channel 249A, and by removing West Union, Channel 276A.

Federal Communications Commission.
John A. Karousos,
Assistant Chief, Audio Division, Media Bureau.

[FR Doc. 05-16063 Filed 8-16-05; 8:45 am]

BILLING CODE 6712-01-P